DEPARTMENT OF COMMERCE

Bureau of the Census

[Docket Number 070725407-7408-01]

American Community Survey Data Products

AGENCY: Bureau of the Census, Department of Commerce.

ACTION: Notice and request for comments.

SUMMARY: Beginning in 2008, the Bureau of the Census (Census Bureau) will introduce multyear estimates into the American Community Survey (ACS) data products. The Census Bureau is proposing to modify its current line of data products to accommodate the multiyear estimates and is requesting comments from current and potential users of ACS data products to help guide this modification. The ACS data products are currently only available in the form of single-year estimates for years 2005 and 2006.

DATES: Written comments must be submitted on or before September 27, 2007.

ADDRESSES: Direct all written comments to the Director, U.S. Census Bureau, Room 8H001, Mail Stop 0100, Washington, DC 20233-0001.

FOR FURTHER INFORMATION CONTACT: Douglas Hillmer, Assistant Division Chief, Data Products, American Community Survey Office, on (301) 763-2994, by e-mail at douglas.w.hillmer@census.gov, or by mail at Room 3K275, Washington, DC 20233-0001.

SUPPLEMENTARY INFORMATION: The ACS is the Nation's largest survey with an annual sample size of approximately 3 million addresses in the United States and Puerto Rico. The ACS is part of the 2010 Decennial Census Program and provides annually updated, detailed demographic, socioeconomic, and housing information for communities across the United States and Puerto Rico.

In 2008, the ACS will publish multiyear estimates in the form of 3-year period estimates for years 2005-2007, in addition to the single-year estimates for 2007. The current line of data products was developed for the initial releases of ACS data that only included single-year estimates. The Census Bureau is most interested in suggestions on how the current data products can be modified to incorporate the multiyear estimates in ways that are most useful for data users. To view the Census Bureau proposal, please visit http://www.census.gov/acs/www/Downloads/proposal_acsdataproducts.pdf.

Census Bureau working groups have sought to improve the ACS data products by taking into account the previous comments and suggestions of data users. On May 14, 2004 (69 FR 26806), the ACS program issued an earlier Federal Register notice and request for comments on the data products. That notice focused on soliciting comments for data products released in 2005. The Census Bureau received 31 responses to the 2004 notice; each response was reviewed in detail. Several suggestions were incorporated into the ACS data products starting in 2005. For additional information on the earlier 2004 notice, please contact the official identified in the FOR FURTHER INFORMATION CONTACT section of this notice.

We have developed a preliminary version of the suite of data products for the multiyear estimates and are now asking for feedback from public data users. In particular, the Census Bureau is looking for feedback about the basic concept of each product and its usefulness to the public. We welcome all comments and suggestions about how the product could be improved to seamlessly incorporate the multiyear estimates into the existing data products. This second solicitation is for the data release scheduled for 2008 and does not relate to earlier data releases.

The following provides a description of each of the types of data products. All of the data products include sampling errors displayed as margins of error.

• Detailed Tables—These tables provide basic distributions of characteristics. They are the most detailed data and are the basis for other ACS products. The detailed tables include tables iterated for nine race and Hispanic origin universes and tables that show imputation (allocation) rates for selected variables.

• Data Profiles—Detailed tables that provide summaries by demographic, social, economic, and housing characteristics.

• Narrative Profiles—Data profile information presented in a user-friendly, text-and-graphic format that put various topics into words for the general user.

• Geographic Ranking Tables (state rankings)—These tables compare indicators for the United States, all states, and the District of Columbia. Ranking tables also can be viewed as charts that show the estimate as a point and the upper and lower bounds of the confidence interval as “wings” or “arms” extending to either side of the estimate. These tables and charts are available as Adobe Acrobat files.

• Thematic Maps—Display geographic variation in map format from the geographic ranking tables.

• Geographic Comparison Tables—These are single-variable tables comparing key indicators for geographies other than States.

• Subject Tables—These tables highlight a particular subject of interest.

• Selected Population Profiles—Data profiles for selected population groups.

• Public Use Microdata Sample File (PUMS)—Computerized files containing record-level data that can be used to create custom analyses. The geography on these files is the same as the PUMS that were defined for the Census 2000 Sample PUMS files.

Please go to the American FactFinder (AFF) Web site to review each data product in detail. Users can access the AFF from the Census Bureau's home page at http://www.census.gov/., or from the AFF link on the ACS home page at http://www.census.gov/acs/www/. Users can view and download each data product. If you have questions about any of these data products, please contact the individual listed in the FOR FURTHER INFORMATION CONTACT section of this notice.

Paperwork Reduction Act

Notwithstanding any other provision of law, no person is required to respond to, nor shall a person be subject to a penalty for failure to comply with, a collection of information subject to requirements of the Paperwork Reduction Act (PRA), unless that collection of information displays a current, valid Office of Management and Budget (OMB) control number. In accordance with the PRA, 44 United States Code, Chapter 35, the OMB approved the ACS survey under OMB Control Number 0607-0810. We will furnish report forms to organizations included in the survey, and additional copies will be available upon written request to the Director, U.S. Census Bureau, Washington, DC 20233-0101.

Dated: August 21, 2007.
Charles Louis Kincannon,
Director, Bureau of the Census.

[FR Doc. E7-16850 Filed 8-27-07; 8:45 am]

BILLING CODE 3510-07-P